DEPARTMENT OF COMMERCE

National Oceanic and Atmospheric Administration

RIN 0648-XL85

Notice of Availability of a Final Environmental Impact Statement/Environmental Impact Report for the Proposed Replacement of the National Oceanic and Atmospheric Administration's Southwest Fisheries Science Center Located in La Jolla, CA

AGENCY: National Marine Fisheries Service, National Oceanic and Atmospheric Administration (NOAA), Commerce.

ACTION: Notice of Availability.

SUMMARY: In accordance with provisions of the National Environmental Policy Act of 1969 (NEPA), NOAA announces the availability of the joint Final EIS/EIR analyzing the environmental impacts of replacing the Southwest Fisheries Science Center (SWFSC). This Final EIS/EIR is prepared pursuant to NEPA to assess the environmental impacts of replacing the existing SWFSC buildings with a new facility located on campus of the Scripps Institution of Oceanography (SIO) within the University of California at San Diego (UCSD) campus in La Jolla, California. The Final EIS/EIR includes consideration of all comments received during the official comment period for the Draft EIS/EIR. The Final EIS/EIR has been distributed to interested parties and responsible government agencies.

DATES: Any written comments on the Final EIS/EIR must be postmarked or transmitted to the responsible official below by June 19, 2009.

FOR FURTHER INFORMATION CONTACT: Paul N. Doremus, Ph.D, NOAA, 301 713-3372 x180, or Anne Elston, Environmental Research Analyst, 333 Ravenswood Avenue, G 234, Menlo Park, CA 94025-3493, SRI International (650) 859-2693; e-mail Anne.Elston@sri.com. NOAA is not required to respond to comments received as a result of issuance of the Final EIS/EIR; however comments will be reviewed and considered for their impact on issuance of the Record of Decision (ROD).

SUPPLEMENTARY INFORMATION: The National Marine Fisheries Services (NMFS) is responsible for the management, conservation, and protection of living marine resources within the U.S. Exclusive Economic Zone. The SWFSC in La Jolla, California, manages and conducts research involving Pacific fisheries and marine mammal research for the protection and management of these resources throughout Western Pacific and Antarctica. The existing SWFSC facility, built in 1964, is currently adjacent to a coastal bluff that is undergoing severe erosion and retreat. NOAA proposes to construct a new SWFSC building to replace its existing NMFS administrative and marine research facilities currently located in La Jolla, California. A minimum of two existing at-risk SWFSC structures would be removed and the property currently used by NOAA would be returned to UCSD for other appropriate uses.

NOAA is the lead Federal agency for implementation of the NEPA. The University of California is the lead agency under the CEQA. The existing and preferred sites for the SWFSC headquarters are at the UCSD campus. The NMFS, SIO and other marine research organizations conduct independent and joint research at the SWFSC and its salt water laboratory facilities.

The proposed action would require construction of a new facility to support SWFSC administrative and marine research operations. The preferred site will enable NMFS, SIO, and others to continue collaboration within a wide range of programmatic marine research disciplines.

Alternative actions analyzed in the Final EIS/EIR include:

• Bluff stabilization

• On-site redevelopment

• On- and near-site redevelopment

• Off-site development at SIO Deep Sea Drilling Site

• Off-site development at UCSD Hillside Neighborhood Site

• Leased office and research space

• Collocation of SWFSC with other existing NOAA facilities

• No Action

This joint Final EIS/EIR analyzes environmental impacts that may result from implementation of the proposed and alternative actions and identifies measures to avoid or reduce the intensity of environmental impact s.

Decision Process

The government decision as to how to proceed will be announced in a Record of Decision (ROD) to be issued no earlier than 30 days after publication of this NOA.

Dated: May 13, 2009.
William F. Broglie,
Chief Administrative Officer, National Oceanic and Atmospheric Administration.

[FR Doc. E9-11783 Filed 5-19-09; 8:45 am]

BILLING CODE 3510-12-S